LIBRARY OF CONGRESS

U.S. Copyright Office

[Docket No. 2019-1]

Notice of Intent To Audit

AGENCY: U.S. Copyright Office, Library of Congress.

ACTION: Public notice.

SUMMARY: The U.S. Copyright Office is announcing receipt of five notices of intent to audit certain statements of account filed by cable operators and a satellite carrier pursuant to the section 111 and 119 statutory licenses.

FOR FURTHER INFORMATION CONTACT: Regan A. Smith, General Counsel and Associate Register of Copyrights, by email at regans@copyright.gov, or Anna Chauvet, Assistant General Counsel, by email at achau@copyright.gov. Either can be contacted by telephone by calling (202) 707-8350.

SUPPLEMENTARY INFORMATION:

I. Background

Sections 111 and 119 of the Copyright Act (“Act”), title 17 of the United States Code, establish compulsory licenses under which cable operators and satellite carriers may, by complying with the license terms, retransmit copyrighted over-the-air broadcast programming. Among other requirements, cable and satellite licensees must file statements of account and deposit royalty fees with the U.S. Copyright Office (“Office”) on a semi-annual basis.

The Satellite Television Extension and Localism Act of 2010,¹ amended the Act by directing the Register of Copyrights (“Register”) to issue regulations to allow copyright owners to audit the statements of account and royalty fees that cable operators and satellite carriers file with the Office.² Following a lengthy rulemaking proceeding, the Office issued such regulations, adopting the audit process now set forth in 37 CFR 201.16.³ Section 201.16(c)(1) requires any copyright owner who intends to audit a statement of account to provide written notice to the Register no later than three years after the last day of the year in which the statement of account was filed with the Office.⁴ Such notice may be submitted by an individual copyright owner or a designated agent that represents a group or multiple groups of copyright owners.⁵ The notice must be received in the Office on or after December 1st and no later than December 31st.⁶ Between January 1st and January 31st of the next calendar year, the Office will publish a notice in the Federal Register announcing the receipt of the notice of intent to audit.⁷

¹ Public Law 111-175, sec. 102(d.)(4), Stat. 1220 (2010).

² See 17 U.S.C. 111(d)(6) (directing the Register to “issue regulations to provide for the confidential verification by copyright owners whose works were embodied in the secondary transmissions of primary transmissions pursuant to [section 111] of the information reported on the semiannual statements of account filed under this subsection for accounting periods beginning on or after January 1, 2010, in order that the auditor designated under subparagraph [111(d)(6)(A)] is able to confirm the correctness of the calculations and royalty payments reported therein”); 17 U.S.C. 119(b)(2) (directing the Register to “issue regulations to permit interested parties to verify and audit the statements of account and royalty fees submitted by satellite carriers under this subsection”).

³ See 79 FR 68623 (Nov. 18, 2014).

⁴ 37 CFR 201.16(c)(1).

⁵ Id.

⁶ Id.

⁷ Id.

II. Notices

On December 31, 2018, the Office received the below notices of intent to audit statements of account. The notices were submitted jointly by the Office of the Commissioner of Baseball, National Football League, National Basketball Association, Women's National Basketball Association, National Hockey League, and National Collegiate Athletics Association pursuant to 37 CFR 201.16(c):

1. Notice of intent to audit the statement of account filed by Southern New England Telephone Co. for the cable system serving Hartford, Connecticut and the surrounding area (Licensing Division No. 62793), for the accounting period July 1-December 31, 2014.

2. Notice of intent to audit the statement of account filed by Verizon Pennsylvania LLC for the cable system serving Philadelphia, Pennsylvania and the surrounding area (Licensing Division No. 62715), for the accounting period July 1-December 31, 2014.

3. Notice of intent to audit the statement of account filed by Cox Communications Louisiana, LLC for the cable system serving Baton Rouge, Louisiana and the surrounding area (Licensing Division No. 011484), for the accounting period January 1-June 30, 2016.

4. Notice of intent to audit the statement of account filed by CSC Holdings, LLC d/b/a Altice USA, Inc., for the cable system serving Avon-By-The-Sea (Avon Borough), New Jersey and the surrounding area (Licensing Division No. 007823), for the accounting period July 1-December 31, 2017.

5. Notice of intent to audit the statement of account filed by Dish Network, LLC for the accounting period January 1-June 30, 2017.

Dated: January 22, 2019.
Regan A. Smith,
General Counsel and Associate Register of Copyrights.

[FR Doc. 2019-00226 Filed 1-25-19; 8:45 am]

BILLING CODE 1410-30-P